DEPARTMENT OF THE INTERIOR

National Park Service

[NPS-WASO-NAGPRA-NPS0038996; PPWOCRADN0-PCU00RP14.R50000]

Notice of Intended Repatriation: Turtle Bay Exploration Park, Redding, CA

AGENCY: National Park Service, Interior.

ACTION: Notice.

SUMMARY: In accordance with the Native American Graves Protection and Repatriation Act (NAGPRA), Turtle Bay Exploration Park (TBEP) intends to repatriate certain a cultural item that meets the definition of an object of cultural patrimony and that has a cultural affiliation with the Indian Tribes or Native Hawaiian organizations in this notice.

DATES: Repatriation of the cultural item in this notice may occur on or after December 12, 2024.

ADDRESSES: Julia Cronin, Turtle Bay Exploration Park, 844 Sundial Bridge Drive, Redding, CA 96001, telephone (530) 242-3191, email jcronin@turtlebay.org.

SUPPLEMENTARY INFORMATION: This notice is published as part of the National Park Service's administrative responsibilities under NAGPRA. The determinations in this notice are the sole responsibility of Turtle Bay Exploration Park, and additional information on the determinations in this notice, including the results of consultation, can be found in the summary or related records. The National Park Service is not responsible for the determinations in this notice.

Abstract of Information Available

A total of one object of cultural patrimony has been requested for repatriation. The single Pomo basket is listed in museum records as a “gift type” and was acquired by the Redding Museum and Art Center (predecessor of TBEP) in 1981 as part of a donation from James “Jim” Dotta. Mr. Dotta was a local instructor at Shasta Community College in Redding, CA, an archaeologist, and heavily involved in the RMAC. He was also an avid collector of books, historical objects, artworks, and Indigenous Belongings. A handwritten note in the accession record states the basket was purchased from Mildred's Antiques for $25.00 in 1959, but no further provenance information is provided and it's not clear in which city, state, or country Mildred's Antiques operated.

Conservation records from April 1992 indicate dermestid damage was discovered on baskets stored near this Pomo basket. Therefore, treatment was conducted on this basket and others. In addition to freezer treatment, the basket was placed in an acid-free box with paradichlorobenzene suspended from the lid. Paradichlorobenzine is a fumigant insecticide used in mothballs and a deodorant in cleaners, sanitizers, and deodorizers. There is no documentation as to when the treatment was complete, but no chemical treatments have been used in Turtle Bay Collections since 2000.

Determinations

Turtle Bay Exploration Park has determined that:

• The one object of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural item described in this notice and the Sherwood Valley Rancheria of Pomo Indians of California.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after December 12, 2024. If competing requests for repatriation are received, Turtle Bay Exploration Park must determine the most appropriate requestor prior to repatriation. Requests for joint repatriation of the cultural item are considered a single request and not competing requests. Turtle Bay Exploration Park is responsible for sending a copy of this notice to the Indian Tribes and Native Hawaiian organizations identified in this notice and to any other consulting parties.

Authority: Native American Graves Protection and Repatriation Act, 25 U.S.C. 3004 and the implementing regulations, 43 CFR 10.9.

Dated: October 29, 2024.
Melanie O'Brien,
Manager, National NAGPRA Program.

[FR Doc. 2024-26078 Filed 11-8-24; 8:45 am]

BILLING CODE 4312-52-P